DEPARTMENT OF DEFENSE

48 CFR Part 224

[DFARS Case 2003-D038]

Defense Federal Acquisition Regulation Supplement; Protection of Privacy and Freedom of Information; Correction

AGENCY: Department of Defense (DoD).

ACTION: Correction.

SUMMARY: DoD is issuing a correction to the preamble to the proposed rule published at 69 FR 8152-8153, February 23, 2004, pertaining to protection of privacy and freedom of information.

FOR FURTHER INFORMATION CONTACT: Ms. Michele Peterson, Defense Acquisition Regulations Council, OUSD(AT&L)DPAP(DAR), IMD 3C132, 3062 Defense Pentagon, Washington, DC 20301-3062. Telephone (703) 602-0311; facsimile (703) 602-0350.

Correction

In the issue of Monday, February 23, 2004, on page 8153, in the first column, the second paragraph of the BACKGROUND section is corrected by revising the second sentence to read as follows: “The rule deletes DFARS 224.102, which specifies that the Privacy Act (5 U.S.C. 552a) does not apply to certain contractor records.”

Michele P. Peterson,
Executive Editor, Defense Acquisition Regulations Council.

[FR Doc. 04-6240 Filed 3-22-04; 8:45 am]

BILLING CODE 5001-08-P